ENVIRONMENTAL PROTECTION AGENCY

40 CFR Chapter I

[FRL-9970-25-OP]

Final Report on Review of Agency Actions That Potentially Burden the Safe, Efficient Development of Domestic Energy Resources Under Executive Order 13783

AGENCY: Environmental Protection Agency (EPA).

ACTION: Final report; notification of availability.

SUMMARY: The EPA is announcing the availability of its Final Report on Review of Agency Actions that Potentially Burden the Safe, Efficient Development of Domestic Energy Resources Under Executive Order 13738.

DATES: November 3, 2017.

FOR FURTHER INFORMATION CONTACT: Samantha Dravis, Office of Policy, Mail Code 1803-A, U.S. Environmental Protection Agency, 1200 Pennsylvania Avenue NW., Washington, DC 20460. Telephone: 202-564-4332; email address: PolicyOffice@epa.gov.

SUPPLEMENTARY INFORMATION: On March 28, 2017, President Trump signed Executive Order 13783, Promoting Energy Independence and Economic Growth. The Executive Order establishes a national policy to promote the clean and safe development of domestic energy resources while avoiding unnecessary regulatory burdens. It directs federal agencies to “review all existing regulations, orders, guidance documents, policies, and any other similar agency actions (collectively, “agency actions”) that potentially burden the development or use of domestically produced energy resources[.]” ¹ The Executive Order also orders the EPA to review specific rules. As part of E.O. 13783, agencies are to develop a report detailing this review that includes recommendations for reducing unnecessary regulatory burdens. The EPA's final report is available at https://www.epa.gov/laws-regulations/regulatory-reform.

¹ 82 FR 16093 (Mar. 28, 2017).

Dated: October 30, 2017.
E. Scott Pruitt,
Administrator.

[FR Doc. 2017-23988 Filed 11-2-17; 8:45 am]

BILLING CODE 6560-50-P